FEDERAL COMMUNICATIONS COMMISSION

47 CFR Part 73

[DA 07-1128; MB Docket No. 05-249; RM-10778, RM-11259]

Radio Broadcasting Services; Glenmora and Marksville, LA

AGENCY: Federal Communications Commission.

ACTION: Proposed rule; dismissal.

SUMMARY: The Audio Division dismisses a Petition for Rule Making filed by Charles Crawford, requesting the allotment of Channel 292A at Glenmora, Louisiana, as its first local service. Charles Crawford, or no other party, filed comments supporting the allotment of Channel 292A at Glenmora, Louisiana. Additionally, a Petition for Rule Making filed by Goudeau, Inc., proposing the allotment of Channel 292A at Marksville, Louisiana, as its first local service is also dismissed. Goudeau, Inc. or no other party, filed comments supporting the allotment of Channel 292A at Marksville, Louisiana. It is the Commission's policy to refrain from making a new allotment to a community absent an expression of interest. Moreover, the license of Station KIOC, Orange, Texas was reclassified to specify operation on Channel 291C0 in lieu of Channel 291C. See File No. BLH-20030303ACM.

ADDRESSES: Secretary, Federal Communications Commission, 445 Twelfth Street, SW., Washington, DC 20554.

FOR FURTHER INFORMATION CONTACT: Rolanda F. Smith, Media Bureau, (202) 418-2180.

SUPPLEMENTARY INFORMATION: This is a synopsis of the Commission's Report and Order, MB Docket No. 05-249, adopted March 7, 2007, and released March 9, 2007. The Notice of Proposed Rule Making proposed the mutually exclusive allotments of Channel 292A at Glenmora, Louisiana and Channel 292A at Marksville, Louisiana. See 70 FR 48358, published August 17, 2005. The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC 20554, telephone 1-800-378-3160 or http://www.BCPIWEB.com. This document is not subject to the Congressional Review Act. (The Commission is, therefore, not required to submit a copy of this Report and Order to GAO, pursuant to the Congressional Review Act, see 5 U.S.C. 801(a)(1)(A) because the proposed rule was dismissed.)

Federal Communications Commission.
John A. Karousos,
Assistant Chief, Audio Division, Media Bureau.

[FR Doc. E7-5440 Filed 3-27-07; 8:45 am]

BILLING CODE 6712-01-P